DEPARTMENT OF THE TREASURY

Agency Information Collection Activities; Submission for OMB Review; Comment Request; Notification of Foreign Tax Redeterminations

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on these requests.

DATES: Comments must be received on or before June 28, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Foreign Tax Credit; Notification of Foreign Tax Redeterminations.

OMB Control Number: 1545-1056.

Type of Review: Extension of a currently approved collection.

Description: The regulation relates to a taxpayer's obligation under section 905(c) of the Internal Revenue Code to file notification of a foreign tax redetermination, to make adjustments to a taxpayer's pools of foreign taxes and earnings and profits, and the imposition of the civil penalty for failure to file such notice or report such adjustments.

Regulatory Project Number: REG-209020-86.

Affected Public: Businesses or other for-profit organizations.

Estimated Number of Respondents: 13,000.

Frequency of Response: Annually.

Estimated Total Number of Annual Responses: 13,000.

Estimated Time per Response: 4.153 hours.

Estimated Total Annual Burden Hours: 54,000 hours.

(Authority: 44 U.S.C. 3501 et seq.)

Dated: May 21, 2021.
Molly Stasko,
Treasury PRA Clearance Officer.

[FR Doc. 2021-11176 Filed 5-26-21; 8:45 am]

BILLING CODE 4810-25-P